DEPARTMENT OF DEFENSE

Department of the Army

Notice of Availability of the Final Environmental Impact Statement (FEIS) for Activities Associated With Future Programs at the U.S. Army Dugway Proving Ground, UT

AGENCY: Department of the Army, DoD.

ACTION: Notice of availability.

SUMMARY: This announces the availability of the FEIS for Activities Associated with Future Programs at the U.S. Army Dugway Proving Ground (DPG). The FEIS provides information on potential effects to the human and physical environment resulting from present and reasonably foreseeable future activities that have been or may be undertaken by the various proponent units and organizations at DPG. Mitigation of these potential effects is also considered in the FEIS.

DATES: The waiting period for the FEIS will end 30 days after publication of the notice of availability in the Federal Register by the U.S. Environmental Protection Agency.

ADDRESSES: Written comments on the FEIS should be forwarded to: Commander, U.S. Army Dugway Proving Ground, ATTN: CSTE-DTC-DP-PA (Final EIS), Dugway, UT 84022-5000.

FOR FURTHER INFORMATION CONTACT: Ms. Paula Nicholson at (435) 831-3409 or by e-mail at nicholsn@dpg.army.mil.

SUPPLEMENTARY INFORMATION: The Proposed Action (preferred alternative) for the FEIS included continuation of existing DPG activities (including but not limited to chemical and biological defensive testing, other testing programs, training, real property management, and environmental management) with future increases in most testing and training operating areas. Additionally, the Proposed Action included diversification of DPG operations and implementation of a Summary Development Plan identifying real property planning recommendations for DPG.

The FEIS considered two action alternatives to the Proposed Action and a No Action alternative. The two action alternatives were: (1) Decreased mission with a major reduction in operations at DPG and (2) a maximum expanded mission with major increases in most operating areas compared to current DPG operations.

The No Action alternative represents the status quo and assumes that existing DPG operations would continue at approximately their current rates into the foreseeable future. All existing actions, associated mitigation measures and mitigative planning strategies would continue to be implemented under the No Action alternative.

Anyone wishing to receive a copy of the FEIS or the Executive Summary may write to U.S. Army Dugway Proving Ground, ATTN: CSTE-DTC-DP-PA (Paula Nicholson), Dugway, UT 84022-5000 or through the Web site at www.dugway.army.mil.

The full FEIS and Executive Summary will be available at the following locations for review purposes only (no extra copies of the documents will be available at these locations): Whitmore Library, 2197 East 7000 South (Ft. Union Blvd.), Salt Lake City; University of Utah, J. Willard Marriott Library, 15th East and South Campus Drive, Salt Lake City; Dugway Public Library, 5124 Kister Avenue, Dugway; Tooele City Public Library, 128 W. Vine Street, Tooele.

Dated: October 1, 2004.
Raymond J. Fatz,
Deputy Assistant Secretary of the Army (Environment, Safety and Occupational Health), OASA (I&E).

[FR Doc. 04-22709 Filed 10-7-04; 8:45 am]

BILLING CODE 3710-08-M